DEPARTMENT OF HEALTH AND HUMAN SERVICES

Administration for Children and Families

Proposed Information Collection Activity; Multistate Financial Institution Data Match With Federally Assisted State Transmitted Levy

AGENCY: Office of Child Support Services, Administration for Children and Families, Department of Health and Human Services.

ACTION: Notice of an information collection; request for public comments.

SUMMARY: The Office of Child Support Services (OCSS), Administration for Children and Families (ACF), is requesting the federal Office of Management and Budget (OMB) to extend approval of the Multistate Financial Institution (MSFIDM) Data Match with Federally Assisted State Transmitted (FAST) Levy, without changes, for an additional three years. The current OMB approval (OMB No.: 0970-0169) expires January 31, 2024.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION:

Description: State child support agencies are statutorily required to enter into data matching agreements with financial institutions doing business in their state to locate obligors' accounts. OCSS operates the MSFIDM program through the Federal Parent Locator Service (FPLS) and facilitates the required data match between state child support agencies and multistate financial institutions (MSFIs). State child support agencies use the data match outcomes to fulfill a statutory requirement to seize an obligor's assets to satisfy past-due child support.

OCSS also operates FAST Levy, which is an automated application within the FPLS to exchange electronic lien/levy information securely and efficiently. State child support agencies and financial institutions use FAST Levy to exchange information to freeze and seize financial assets more quickly and efficiently.

Respondents: MSFIs and State Child Support Agencies

Annual Burden Estimates
Information collection instrument | Total annual number of respondents | Total annual number of responses per respondent | Average annual burden hours per response | Total annual burden hours
Financial Data Match Record Specifications Match File Upload/Download: Portal Users | 263 | 4 | 0.083 | 87.3
Election Form | 13 | 1 | 0.5 | 6.5
FAST-Levy Response Withhold Record Specifications: Financial Institutions | 1 | 1 | 1,716 | 1,716.0
FAST-Levy Request Withhold Record Specifications: State Child Support Agencies | 2 | 1 | 1,610 | 3,220.0

Estimated Total Annual Burden Hours: 5,029.8.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(l); 42 U.S.C. 666(a)(2) and (c)(1)(G)(ii); 42 U.S.C. 666(a)(17)(A); 42 U.S.C. 652(a)(7); and, 45 CFR 303.7(a)(5)

Mary B. Jones,
ACF/OPRE Certifying Officer.

[FR Doc. 2023-13885 Filed 6-29-23; 8:45 am]

BILLING CODE 4184-41-P